DEPARTMENT OF THE INTERIOR

National Park Service

[NPS-WASO-NAGPRA-NPS0038659; PPWOCRADN0-PCU00RP14.R50000]

Notice of Intended Repatriation: University of Georgia, Laboratory of Archaeology, Athens, GA

AGENCY: National Park Service, Interior.

ACTION: Notice.

SUMMARY: In accordance with the Native American Graves Protection and Repatriation Act (NAGPRA), the University of Georgia, Laboratory of Archaeology intends to repatriate certain cultural items that meet the definition of sacred objects and that have a cultural affiliation with the Indian Tribes or Native Hawaiian organizations in this notice.

DATES: Repatriation of the cultural items in this notice may occur on or after October 10, 2024.

ADDRESSES: Amanda Thompson, University of Georgia, Laboratory of Archaeology, 1125 Whitehall Road, Athens, GA 30605, telephone (706) 542-8737, email arobthom@uga.edu.

SUPPLEMENTARY INFORMATION: This notice is published as part of the National Park Service's administrative responsibilities under NAGPRA. The determinations in this notice are the sole responsibility of the University of Georgia, Laboratory of Archaeology and additional information on the determinations in this notice, including the results of consultation, can be found in the summary or related records. The National Park Service is not responsible for the determinations in this notice.

Abstract of Information Available

A total of five cultural items has been requested for repatriation. The five sacred objects are baskets that were donated to the University of Georgia libraries in 2016 from Nancy Montgomery. The sacred objects were appraised prior to their donation and the appraisal details that the sacred objects were from the following locations: Trinity River Region, Northwest California, Klamath River Region and Salmon Mountains area in California dated from the late 19th century to early 20th century. The Laboratory has been unable to locate information for any research on these objects and does not have any history of contamination.

Determinations

The University of Georgia, Laboratory of Archaeology has determined that:

• The five sacred objects described in this notice are specific ceremonial objects needed by a traditional Native American religious leader for present-day adherents to practice traditional Native American religion, according to the Native American traditional knowledge of a lineal descendant, Indian Tribe, or Native Hawaiian organization.

• There is a reasonable connection between the cultural items described in this notice and the Yurok Tribe of the Yurok Reservation, California.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after October 10, 2024. If competing requests for repatriation are received, the University of Georgia, Laboratory of Archaeology must determine the most appropriate requestor prior to repatriation. Requests for joint repatriation of the cultural items are considered a single request and not competing requests. The University of Georgia, Laboratory of Archaeology is responsible for sending a copy of this notice to the Indian Tribes and Native Hawaiian organizations identified in this notice and to any other consulting parties.

Authority: Native American Graves Protection and Repatriation Act, 25 U.S.C. 3004 and the implementing regulations, 43 CFR 10.9.

Dated: August 29, 2024.
Melanie O'Brien,
Manager, National NAGPRA Program.

[FR Doc. 2024-20289 Filed 9-9-24; 8:45 am]

BILLING CODE 4312-52-P